SMALL BUSINESS ADMINISTRATION

Revocation of License of Small Business Investment Company

Pursuant to the authority granted to the United States Small Business Administration by the Wind-Up Order of the United States District Court for the Southern District of New York, dated June 8, 2011, the United States Small Business Administration hereby revokes the license of LV Equity Partners SBIC, L.P. a Delaware limited partnership, to function as a small business investment company under the Small Business Investment Company License No. 02720594 issued to LV Equity Partners SBIC, on August 25, 1999 and said license is hereby declared null and void as of June 8, 2011.

United States Small Business Administration.
Dated: May 15, 2012.
Sean J. Greene,
Associate Administrator for Investment.

[FR Doc. 2012-13131 Filed 5-30-12; 8:45 am]

BILLING CODE 8025-01-P